DEPARTMENT OF ENERGY

Federal Energy Regulatory Commission

Combined Notice of Filings #1

August 17, 2009.

Take notice that the Commission received the following electric rate filings:

Docket Numbers: ER91-569-046.

Applicants: Entergy Services, Inc.

Description: Entergy Arkansas, Inc et al. submits a non material change in status pursuant to the requirements of Order 652.

Filed Date: 08/14/2009.

Accession Number: 20090817-0075.

Comment Date: 5 p.m. Eastern Time on Friday, September 04, 2009.

Docket Numbers: ER09-1391-001.

Applicants: MidAmerican Energy Company.

Description: MidAmerican Energy Company submits Notice of Cancellation.

Filed Date: 08/14/2009.

Accession Number: 20090817-0077.

Comment Date: 5 p.m. Eastern Time on Friday, September 04, 2009.

Docket Numbers: ER09-1429-001.

Applicants: Black Hills Wyoming, LLC.

Description: Black Hills Wyoming, LLC submits for acceptance Original Sheet 1 to FERC Electric Tariff, Original Volume 1.

Filed Date: 08/14/2009.

Accession Number: 20090817-0076.

Comment Date: 5 p.m. Eastern Time on Friday, September 04, 2009.

Docket Numbers: ER09-1555-000.

Applicants: Wisconsin Power and Light Company.

Description: Wisconsin Power and Light Company submits Changes in Depreciation Rates for Wholesale Production Service.

Filed Date: 08/07/2009.

Accession Number: 20090807-0095.

Comment Date: 5 p.m. Eastern Time on Friday, August 28, 2009.

Docket Numbers: ER09-1556-000.

Applicants: Midwest Independent Transmission System Operator, Inc.

Description: Midwest Independent Transmission System Operator, Inc submits Original Service Agreement 2074 to its FERC Electric Tariff, Fourth Revised Volume 1.

Filed Date: 08/07/2009.

Accession Number: 20090807-0096.

Comment Date: 5 p.m. Eastern Time on Friday, August 28, 2009.

Docket Numbers: ER09-1557-000.

Applicants: Midwest Independent Transmission System Operator, Inc.

Description: Midwest Independent Transmission System Operator, Inc submits Original Service Agreement 2075 to its FERC Electric Tariff, Fourth Revised Volume 1.

Filed Date: 08/07/2009.

Accession Number: 20090807-0097.

Comment Date: 5 p.m. Eastern Time on Friday, August 28, 2009.

Docket Numbers: ER09-1560-000.

Applicants: Entergy Services, Inc.

Description: Entergy Services, Inc submits a Notice of Termination of Rate Schedule FERC No. 9 etc.

Filed Date: 08/07/2009.

Accession Number: 20090807-0114.

Comment Date: 5 p.m. Eastern Time on Friday, August 28, 2009.

Docket Numbers: ER09-1585-000.

Applicants: PacifiCorp.

Description: PacifiCorp submits Notice of Cancellation for Service Agreement No 470 to its Seventh Revised Volume No 11 OATT.

Filed Date: 08/14/2009.

Accession Number: 20090814-0094.

Comment Date: 5 p.m. Eastern Time on Friday, September 04, 2009.

Docket Numbers: ER09-1587-000.

Applicants: ISO New England Inc.

Description: ISO New England submits its Capital Projects Reports and schedule of the unamortized costs of the ISO's funded capital expenditures for the quarter ending 6/30/09.

Filed Date: 08/14/2009.

Accession Number: 20090817-0074.

Comment Date: 5 p.m. Eastern Time on Friday, September 04, 2009.

Docket Numbers: ER09-1588-000.

Applicants: ISO New England Inc.

Description: ISO New England Inc submits three executed, but non-conforming, four-party Standard Larger Generator Interconnection Agreements.

Filed Date: 08/14/2009.

Accession Number: 20090817-0078.

Comment Date: 5 p.m. Eastern Time on Friday, September 04, 2009.

Docket Numbers: ER09-1589-000.

Applicants: FirstEnergy Service Company.

Description: FirstEnergy Service Company requests that the Commission approve the termination of ATSI's status as a transmission operator etc.

Filed Date: 08/17/2009.

Accession Number: 20090817-0031.

Comment Date: 5 p.m. Eastern Time on Tuesday, September 08, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to any subscribed dockets(s). For assistance with any FERC Online service, please e-mail FERCOnlineSupport@ferc.gov. or call (866) 208-3676 (toll free). For TTY, call (202) 502-8659.

Nathaniel J. Davis, Sr.,
Deputy Secretary.

[FR Doc. E9-20355 Filed 8-24-09; 8:45 am]

BILLING CODE 6717-01-P